DEPARTMENT OF HOMELAND SECURITY

Coast Guard

33 CFR Part 117

[Docket No. USCG-2018-0033]

Drawbridge Operation Regulation; New Jersey Intracoastal Waterway, Beach Thorofare, Margate City, NJ

AGENCY: Coast Guard, DHS.

ACTION: Notice of deviation from drawbridge regulation.

SUMMARY: The Coast Guard has issued a temporary deviation from the operating schedule that governs the Margate Boulevard/Margate Bridge which carries Margate Boulevard across the New Jersey Intracoastal Waterway, Beach Thorofare, mile 74.0, at Margate City, NJ. The deviation is necessary to facilitate bridge maintenance. This deviation allows the bridge to remain in the closed-to-navigation position.

DATES: The deviation is effective from 7 a.m. on Monday, February 26, 2018, through 7 p.m. on Monday, March 12, 2018.

ADDRESSES: The docket for this deviation, [USCG-2018-0033] is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLEMENTARY INFORMATION: The Ole Hansen and Sons, Inc., owner and operator of the Margate Boulevard/Margate Bridge that carries Margate Boulevard across the New Jersey Intracoastal Waterway, Beach Thorofare, mile 74.0, at Margate City, NJ, has requested a temporary deviation from the current operating schedule to facilitate maintenance of the structural steel and replacement of the structural steel support column of the double bascule drawbridge. The bridge has a vertical clearance of 14 feet above mean high water in the closed position and unlimited clearance in the open position. The current operating schedule is set out in 33 CFR 117.5. Under this temporary deviation, the bridge will be in the closed-to-navigation position between 7 a.m. on February 26, 2018, through 7 p.m. on March 12, 2018.

The Beach Thorofare is used by a variety of vessels including recreational vessels. The Coast Guard has carefully coordinated the restrictions with waterway users in publishing this temporary deviation.

Vessels able to pass through the bridge in the closed-to-navigation position may do so at any time. The bridge will not be able to open for emergencies and there is no immediate alternative route for vessels unable to pass through the bridge in the closed position. The Coast Guard will also inform the users of the waterway through our Local and Broadcast Notices to Mariners of the change in operating schedule for the bridge, so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: January 26, 2018.
Hal R. Pitts,
Bridge Program Manager, Fifth Coast Guard District.

[FR Doc. 2018-01981 Filed 1-31-18; 8:45 am]

BILLING CODE 9110-04-P